DEPARTMENT OF STATE

[Public Notice: 11109]

Determination Under Section 620G(b) of the Foreign Assistance Act of 1961

Pursuant to section 620G(b) of the Foreign Assistance Act of 1961 (FAA), Executive Order 12163, as amended by Executive Order 13346, and Delegation of Authority No. 245-2, I hereby determine that furnishing assistance to the governments of Israel, Japan, Spain, and South Korea is important to the national interests of the United States and thereby waive, with respect to these governments, the application of section 620G(a) of the FAA.

This Determination shall be published in the Federal Register and, along with the accompanying Memorandum of Justification, shall be reported to Congress.

Dated: April 27, 2020.
Stephen E. Biegun,
Deputy Secretary of State.

[FR Doc. 2020-10117 Filed 5-11-20; 8:45 am]

BILLING CODE 4710-26-P